DEPARTMENT OF ENERGY

Federal Energy Regulatory Commission

[Docket No. CP00-379-000]

Natural Gas Pipeline Company of America; Application for Permission and Approval To Abandon Interests in Offshore Lateral, Tap, Meter and Non-Mainline Compression Facilities and Request for Nonjurisdictional Determination

June 12, 2000.

Take notice that on June 7, 2000, Natural Gas Pipeline Company of America (Natural), 747 East 22nd Street, Lombard, Illinois 60148, filed an application pursuant to Section 7(b) of the Natural Gas Act (NGA) and the Commission's Regulations to abandon interests in offshore lateral, tap, meter and non-mainline compression facilities and requests for nonjurisdictional determination, all as more fully set forth in the application on file with the Commission and open to public inspection. This filing may be viewed on the web at http://www.ferc.fed.us/online/rims.htm (call 202-208-2222 for assistance).

Any questions regarding this application should be directed to James J. McElligott, Senior Vice President, Natural Gas Pipeline Company of America, 747 East 22nd Street, Lombard, Illinois 60148 at (630) 691-3525.

Specifically Natural requests:

(1) permission and approval to abandon, by sale to East Breaks Gathering Company, L.L.C. (“East Breaks”), a nonjurisdictional gathering company, interests in an aggregate of 39.98 miles of various diameter offshore laterals including related tap, meter and “non-mainline” compression facilities and appurtenances in the West Cameron (“WC”) and Vermilion (“VR”) Areas, offshore Louisiana. Specifically, Natural seeks to abandon its interests in lateral facilities connecting gas supply in VR 221A, VR 340A, VR 348A, WC 170A, WC 172CB, WC 212C, WC 533 (meter and “non-mainline” compressor only), WC 534A (meter only), WC 537A, WC 551A/New, WC 564A and WC 630 (meter only). Natural will also sell to East Breaks facilities interests in an aggregate of 15.62 miles of previously abandoned and retired in place lateral facilities, which specifically had connected gas supply in East Cameron (“EC”) 281B, offshore Louisiana, EC 347A, WC 264A #1, WC 540A and WC 551A/Old; 1/ and

(2) a determination in the Commission's order in the present docket that following abandonment, and upon transfer to East Breaks, the subject facilities interests to be abandoned here and those in the previously abandoned and retired in place laterals to be sold will become part of East Breaks' system and will be nonjurisdictional and not subject to NGA regulation by the Commission.

Natural states that its interests in the subject facilities were originally constructed as a means of receiving gas purchased from various suppliers for Natural's system supply to support Natural's merchant function. Natural's merchant function terminated effective December 1, 1993. Consequently, Natural states that it no longer has a need for the facilities interests to be abandoned in the present application. Natural states that it proposes to abandon and transfer these facilities interests, as well as Natural's interests in five (5) previously abandoned and retired in place laterals, to East Breaks for $5,137,618.

Any person desiring to be heard or make any protest with reference to said application should on or before July 3, 2000, file with the Federal Energy Regulatory Commission, Washington, DC 20426, a petition to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a petition to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no petition to intervene is filed within the time required herein, if the Commission on its own review of the matter finds that a grant of the certificate is required by the public convenience and necessity. If a petition for leave is timely filed, or if the Commission on its own motion believes that a formal hearing is required, further notice of such hearing will be duly given.

Under the procedure provided for, unless otherwise advised, it will be unnecessary for Natural to appear or be represented at the hearing.

David P. Boergers,
Secretary.

[FR Doc. 00-15276 Filed 6-15-00; 8:45 am]

BILLING CODE 6717-01-M